ENVIRONMENTAL PROTECTION AGENCY

[FRL- 9287-2]

Science Advisory Board Staff Office; Notification of a Public Meeting of the Advisory Council on Clean Air Compliance Analysis Augmented for Review of the Report to Congress on Black Carbon

AGENCY: Environmental Protection Agency (EPA).

ACTION: Notice.

SUMMARY: The Environmental Protection Agency (EPA or Agency) Science Advisory Board (SAB) Staff Office announces a public face-to-face meeting of the Black Carbon Review Panel.

DATES: The meeting will be held on April 18, 2011 from 9 a.m. to 5 p.m. and April 19, 2011 from 8:30 a.m. to 2:30 p.m. (Eastern Time).

ADDRESSES: The Panel meeting will be held at the Omni Shoreham, 2500 Calvert Street NW., Washington, DC 20008.

FOR FURTHER INFORMATION CONTACT: Members of the public who wish to obtain further information regarding this meeting must contact Ms. Stephanie Sanzone, Designated Federal Officer (DFO). Ms. Sanzone may be contacted at the EPA Science Advisory Board (1400R), U.S. Environmental Protection Agency, 1200 Pennsylvania Avenue, NW., Washington, DC 20460; or by telephone/voice mail at (202) 564-2067; fax at (202) 565-2098; or e-mail at sanzone.stephanie@epa.gov. General information concerning the Council can be found at the EPA Council Web site at http://www.epa.gov/advisorycouncilcaa. Any inquiry regarding EPA's Draft Report to Congress on Black Carbon should be directed to Erika Sasser, EPA Office of Air Quality Planning and Standards (OAQPS), at sasser.erika@epa.gov or (919) 541-3889.

SUPPLEMENTARY INFORMATION: Background: The Advisory Council on Clean Air Compliance Analysis (Council) was established pursuant to Section 812 of the Clean Air Act (CAA) Amendments of 1990 (codified as 42 U.S.C. 7612) to provide independent advice to the Administrator on technical and economic aspects of analyses and reports EPA prepares on the impacts of the CAA on the public health, economy, and environment of the United States. The Council is a Federal Advisory Committee chartered under the Federal Advisory Committee Act (FACA), 5 U.S.C., App. 2. Pursuant to FACA and EPA policy, notice is hereby given that the Council augmented with additional experts (hereafter referred to as the Black Carbon Review Panel) will hold a public meeting to review EPA's Draft Report to Congress on Black Carbon. The Panel will comply with the provisions of FACA and all appropriate SAB Staff Office procedural policies.

The October 2009 Interior Appropriations bill (Pub. L. 111-88) requires the EPA, in consultation with other Federal agencies, to prepare a comprehensive report to Congress on the climate effects of black carbon. Black carbon, or soot, results from incomplete combustion of organic matter such as fossil fuels and biomass. The report to Congress will evaluate and synthesize available information on sources of black carbon, impacts of black carbon on global and regional climate, and the potential utility and cost-effectiveness of mitigation options for reducing climate and public health impacts of black carbon.

EPA's Office of Air Quality Planning and Standards (OAQPS) requested that the Council review the draft Report to Congress on Black Carbon to evaluate the report's scientific rigor, completeness, and technical accuracy. To conduct this review, the Council was augmented with additional experts in climate modeling and black carbon emissions, impacts, and control strategies. Information about formation of the Black Carbon Review Panel can be found at http://yosemite.epa.gov/sab/sabproduct.nsf/fedrgstr_activites/BC%20Report%20to%20Congress?OpenDocument.

Availability of Meeting Materials: The agenda, the EPA Draft Report to Congress on Black Carbon, and other meeting materials will be available on the Council Web site at http://yosemite.epa.gov/sab/sabproduct.nsf/fedrgstr_activites/BC%20Report%20to%20Congress?OpenDocument in advance of the meeting.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the Council will have the most impact if it provides specific scientific or technical information or analysis for Council panels to consider or if it relates to the clarity or accuracy of the technical information. Members of the public wishing to provide comment should contact the Designated Federal Officer for the relevant advisory committee directly. Oral Statements: In general, individuals or groups requesting an oral presentation at this public meeting will be limited to five minutes per speaker. Interested parties should contact Ms. Stephanie Sanzone, DFO, in writing (preferably via e-mail), at the contact information noted above, by April 8, 2011 to be placed on the list of public speakers for the meeting. Written Statements: Written statements should be received in the SAB Staff Office by April 8, 2011 so that the information may be made available to the Panel for their consideration. Written statements should be supplied to the DFO in electronic format via e-mail (acceptable file formats: Adobe Acrobat PDF, WordPerfect, MS Word, MS PowerPoint, or Rich Text files in IBM-PC/Windows 98/2000/XP format). It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Ms. Stephanie Sanzone at the phone number or e-mail address noted above, preferably at least ten days prior to the meeting, to give EPA as much time as possible to process your request.

Dated: March 16, 2011.
Anthony F. Maciorowski,
Deputy Director, EPA Science Advisory Board Staff Office.

[FR Doc. 2011-7200 Filed 3-25-11; 8:45 am]

BILLING CODE 6560-50-P